DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: NOAA Teacher-At-Sea Program.

Form Number(s): None.

OMB Approval Number: 0648-0283.

Type of Request: Regular submission.

Burden Hours: 309.

Number of Respondents: 375.

Average Hours Per Response: Application, 1 hour; health services questionnaire, 15 minutes; and recommendation, 15 minutes.

Needs and Uses: The NOAA Teacher-at-Sea Program provides educators with the opportunity to participate in research projects aboard NOAA vessels. The respondents are educators who provide information about themselves and their teaching situation and who submit a follow-up report with ideas for classroom applications. Recommendations are also required.

Affected Public: Individuals or households.

Frequency: On occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: March 9, 2007.
Gwellnar Banks,
Management Analyst, Office of the Chief Information Officer.

[FR Doc. E7-4708 Filed 3-14-07; 8:45 am]

BILLING CODE 3510-22-P